DEPARTMENT OF COMMERCE

Patent and Trademark Office

[Docket No.: PTO-P-2010-0003]

Extension of the Patent Application Backlog Reduction Stimulus Plan

AGENCY: United States Patent and Trademark Office, Commerce.

ACTION: Notice.

SUMMARY: The United States Patent and Trademark Office (USPTO) published a notice in the Federal Register providing an additional temporary basis (the Patent Application Backlog Reduction Stimulus Plan) under which a small entity applicant may have an application accorded special status for examination if the applicant expressly abandons another copending unexamined application. The Patent Application Backlog Reduction Stimulus Plan allows small entity applicants having multiple applications currently pending before the USPTO to have greater control over the priority with which their applications are examined while also stimulating a reduction of the backlog of unexamined patent applications pending before the USPTO. The USPTO is extending Patent Application Backlog Reduction Stimulus Plan until June 30, 2010.

DATES: Effective Date: February 1, 2010. The Patent Application Backlog Reduction Stimulus Plan became effective on November 27, 2009.

FOR FURTHER INFORMATION CONTACT: Pinchus M. Laufer, Office of the Deputy Commissioner for Patent Examination Policy, by telephone at 571-272-7726; or via e-mail addressed to Pinchus.Laufer@uspto.gov; or by mail addressed to: Box Comments Patents, Commissioner for Patents, P.O. Box 1450, Alexandria, VA 22313-1450.

SUPPLEMENTARY INFORMATION: The USPTO published a notice in the Federal Register providing an additional temporary basis (the Patent Application Backlog Reduction Stimulus Plan) under which a small entity applicant may have an application accorded special status for examination if the applicant expressly abandons another copending unexamined application. See Patent Application Backlog Reduction Stimulus Program, 74 FR 62285 (Nov. 27, 2009), 1349 Off. Gaz. Pat. Off. 304 (Dec. 22, 2009) (notice). The Patent Application Backlog Reduction Stimulus Plan allows small entity applicants having multiple applications currently pending before the USPTO to have greater control over the priority with which their applications are examined while also stimulating a reduction of the backlog of unexamined patent applications pending before the USPTO. The USPTO indicated that the program would last for a period ending on February 28, 2010, but may be extended for an additional time period thereafter. See Patent Application Backlog Reduction Stimulus Program, 74 FR at 62287, 1349 Off. Gaz. Pat. Off. at 306.

The USPTO is extending Patent Application Backlog Reduction Stimulus Plan until June 30, 2010. The USPTO may further extend the procedures under Patent Application Backlog Reduction Stimulus Plan to all applicants (on either a temporary or permanent basis), or may also discontinue the procedures after June 30, 2010, depending upon the results of the Patent Application Backlog Reduction Stimulus Plan. For a petition under 37 CFR 1.102 to be granted under the Patent Application Backlog Reduction Stimulus Plan (unless the Patent Application Backlog Reduction Stimulus Plan is extended by a subsequent notice), the petition under 37 CFR 1.102 and the letter of express abandonment and its accompanying statement must be filed on or before June 30, 2010.

Dated: January 26, 2010.
David J. Kappos,
Under Secretary of Commerce for Intellectual Property and Director of the United States Patent and Trademark Office.

[FR Doc. 2010-2033 Filed 1-29-10; 8:45 am]

BILLING CODE 3510-16-P